DEPARTMENT OF HOUSING AND URBAN DEVELOPMENT

[Docket No. FR-4837-D-46]

Order of Succession

AGENCY: Office of General Counsel, HUD.

ACTION: Notice of order of succession.

SUMMARY: In this notice, the General Counsel for the Department of Housing and Urban Development designates the Order of Succession for the Office of General Counsel for the Department. This Order of Succession supersedes the Order of Succession for the General Counsel, published on August 22, 2000.

EFFECTIVE DATE: May 21, 2004.

FOR FURTHER INFORMATION CONTACT: John Opitz, Assistant General Counsel for Procurement and Administrative Law, Department of Housing and Urban Development, 451 Seventh Street, SW., Washington, DC 20410-0500, (202) 708-0622. This is not a toll-free number. For those needing assistance, this number may be accessed via TTY by calling the Federal Information Relay Service at 800-877-8339.

SUPPLEMENTARY INFORMATION: The General Counsel for the Department of Housing and Urban Development is issuing this Order of Succession of officials authorized to perform the functions and duties of the Office of the General Counsel when, by reason of absence, disability or vacancy in office, the General Counsel is not available to exercise the powers or perform the duties of the office. This Order of Succession is subject to the provisions of the Vacancy Reform Act of 1998, 5 U.S.C. 3345-3349d. This publication supersedes the Order of Succession notice published on August 22, 2000 at 65 FR 51016.

Accordingly, the General Counsel designates the following Order of Succession:

Section A. Order of Succession

Subject to the provisions of the Vacancy Reform Act of 1998, during any period when, by reason of absence, disability, or vacancy in office, the General Counsel for the Department of Housing and Urban Development is not available to exercise the powers or perform the duties of the General Counsel, the following officials within the Office of General Counsel are hereby designated to exercise the powers and perform the duties of the Office:

(1) Deputy General Counsel for Equal Opportunity and Administrative Law;

(2) General Deputy General Counsel;

(3) Deputy General Counsel for Litigation and Enforcement;

(4) Associate General Counsel for Assisted Housing and Community Development;

(5) Associate General Counsel for Finance and Regulatory Compliance;

(6) Associate General Counsel for Insured Housing;

(7) Associate General Counsel for Litigation;

(8) Associate General Counsel for Program Enforcement;

(9) Associate General Counsel for Human Resources;

(10) Associate General Counsel for Fair Housing;

(11) Associate General Counsel for Legislation and Regulations.

These officials shall perform the functions and duties of the Office in the order specified herein, and no official shall serve unless all the other officials, whose position titles precede his/hers in this order, are unable to act by reason of absence, disability, or vacancy in office.

Section B. Authority Superseded

This Order of Succession supersedes the Order of Succession for the General Counsel, published at 65 FR 51016 (August 22, 2000).

Authority: Section 7(d), Department of Housing and Urban Development Act, 42 U.S.C. 3535(d).

Dated: May 21, 2004.
Richard A. Hauser,
General Counsel.

[FR Doc. 04-12086 Filed 5-27-04; 8:45 am]

BILLING CODE 4210-67-P